DEPARTMENT OF HEALTH AND HUMAN SERVICES

National Institutes of Health

Prospective Grant of Exclusive License: NMR Glomerular Filtration Test and Kit

AGENCY: National Institutes of Health, Public Health Service, DHHS.

ACTION: Notice.

SUMMARY: This is notice in accordance with 15 U.S.C. 209(c)(1) and 37 CFR 404.7(a)(1)(i) that the National Institutes of Health (NIH), Department of Health and Human Services, is contemplating the grant of a limited field of use exclusive world-wide license to practice the invention embodied in U.S. Patent No. 5,100,646 issued March 31, 1992 (U.S. Patent Application Serial No. 07/557,038, filed July 25, 1990), entitled “NMR Glomerular Filtration Test and Kit” to BioPhysics Assay Laboratory, Inc. of Wellesley, Massachusetts, U.S.A. These patent rights are assigned to the United States of America.

DATES: Only written comments and/or applications for a license which are received by NIH on or before June 23, 2000 will be considered.

ADDRESSES: Requests for a copy of this issued patent or applications, inquiries, comments, and other materials relating to the contemplated license should be directed to: Carol A. Salata, Technology Licensing Specialist, Office of Technology Transfer, National Institutes of Health, 6011 Executive Boulevard, Suite 325, Rockville, MD 20852-3804; Telephone: (301) 496-7735 ext 232; Facsimile: (301) 402-0220; E-mail: salatac@OD.NIH.GOV.

SUPPLEMENTARY INFORMATION: The patent describes a method of determining the glomerular filtration rate (GFR) of a subject that comprises comparing the T1 relaxation rate values of serum and urine samples obtained from a subject given an NMR detectable paramagnetic substance that is filtered by the kidney in accordance with a specified formula.

The prospective exclusive license will be royalty-bearing and will comply with the terms and conditions of 35 U.S.C. 209 and 37 CFR 404.7. This prospective exclusive license may be granted unless, within 60 days from the date of this published notice, NIH receives written evidence and argument that establishes that the grant of the license would not be consistent with the requirements of 35 U.S.C. 209 and 37 CFR 404.7.

It is anticipated that this license may be limited to the use of the method for determining the glomerular filtration rate of a patient utilizing a paramagnetic substance that is filtered by the kidney which is detectable by NMR.

Properly filed competing applications for a license filed in response to this notice will be treated as objections to the contemplated license. Comments and objections submitted in response to this notice will not be made available for public inspection, and, to the extent permitted by law, will not be released under the Freedom of Information Act, 5 U.S.C. 552.

Dated: April 17, 2000.
Jack Spiegel,
Director, Division of Technology Development and Transfer, Office of Technology Transfer.

[FR Doc. 00-10167 Filed 4-21-00; 8:45 am]

BILLING CODE 4140-01-M